DEPARTMENT OF HEALTH AND HUMAN SERVICES

National Biodefense Science Board; Call for Nominees

AGENCY: Department of Health and Human Services, Office of the Secretary.

ACTION: Notice.

SUMMARY: The Office of the Secretary is accepting resumes or curricula vitae from qualified individuals who wish to be considered for membership on the National Biodefense Science Board. Six members have membership expiration dates of December 31, 2010. Nominees are being accepted in the following categories: industry; academia, health care consumers, and from State and local governments and public health agencies, emergency responders and organizations representing other appropriate stakeholders. Submit a resume or curriculum vitae to nbsb@hhs.gov by June 30, 2010.

FOR FURTHER INFORMATION, CONTACT: CAPT Leigh A. Sawyer, D.V.M., M.P.H., Executive Director, National Biodefense Science Board, Office of the Assistant Secretary for Preparedness and Response, U.S. Department of Health and Human Services, 330 C Street, SW., Switzer Building Room 5127, Washington, DC 20447; 202-205-3815; fax: 202-205-8508; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Discription of Duties: The Board shall advise the Secretary on current and future trends, challenges, and opportunities presented by advances in biological and life sciences, biotechnology, and genetic engineering with respect to threats posed by naturally occurring infectious diseases and chemical, biological, radiological, and nuclear agents. At the request of the Secretary, the Board shall review and consider any information and findings received from the working groups established under 42 U.S.C. 247d-7f(b). At the request of the Secretary, the Board shall provide recommendations and findings for expanded, intensified, and coordinated biodefense research and development activities. Additional advisory duties concerning public health emergency preparedness and response may be assigned at the discretion of the Secretary.

Structure: The Board shall consist of 13 voting members, including the Chairperson; additionally, there may be non-voting ex officio members. Members and the Chairperson shall be appointed by the Secretary from among the Nation's preeminent scientific, public health and medical experts, as follows: (a) Such Federal officials as the Secretary determines are necessary to support the functions of the Board, (b) four individuals from the pharmaceutical, biotechnology and device industries, (c) four academicians, and (d) five other members as determined appropriate by the Secretary, one of whom must be a practicing health care professional and one of whom must be from an organization representing health care consumers. Additional members for category (d), above, will be selected from among State and local governments and public health agencies, emergency medical responders and organizations representing other appropriate stakeholders. A member of the Board described in (b), (c), and (d) in the above paragraph shall serve for a term of 3 years, except that the Secretary may adjust the terms of the initial Board appointees in order to provide for a staggered term of appointment of all members. Members who are not fulltime or permanent part-time Federal employees shall be appointed by the Secretary as Special Government Employees.

Dated: May 21, 2010.
Nicole Lurie,
Assistant Secretary for Preparedness and Response, U.S. Department of Health and Human Services.

[FR Doc. 2010-13177 Filed 6-1-10; 8:45 am]

BILLING CODE P